DEPARTMENT OF COMMERCE

International Trade Administration

[A-533-819, A-570-859, A-557-810]

Notice of Final Determinations of Sales at Less Than Fair Value: Steel Wire Rope From India and the People's Republic of China; Notice of Final Determination of Sales at Not Less Than Fair Value: Steel Wire Rope From Malaysia

AGENCY: Import Administration, International Trade Administration, Department of Commerce.

EFFECTIVE DATE: February 28, 2001.

ACTION: Notice of final determinations of sales at less than fair value and notice of sales at not less than fair value.

FOR FURTHER INFORMATION CONTACT: Keir Whitson or Gabriel Adler, at (202) 482-1777 or (202) 482-3813, respectively; AD/CVD Enforcement, Office 5, Group II, Import Administration, Room 1870, International Trade Administration, U.S. Department of Commerce, 14th Street and Constitution Avenue, NW, Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to Department of Commerce (Department) regulations refer to the regulations codified at 19 CFR part 351 (April 2000).

Final Determinations

We determine that steel wire rope from India and the People's Republic of China (PRC) is being sold, or is likely to be sold, in the United States at less than fair value (LTFV), as provided in section 735 of the Act. We also determine that steel wire rope from Malaysia is not being sold in the United States at LTFV. The estimated margins of sales at LTFV are shown in the Continuation of Suspension of Liquidation section of this notice.

Case History

The preliminary determinations in these investigations were issued on September 25, 2000. See Notice of Preliminary Determinations of Sales at Less Than Fair Value: Steel Wire Rope from India and the People's Republic of China; Notice of Preliminary Determination of Sales at Not Less Than Fair Value: Steel Wire Rope from Malaysia,65 FR 58736 (October 2, 2000) (Steel Wire Rope Preliminary Determinations).

In the India investigation, we conducted verification of the cost and sales information submitted by respondent Usha Martin Industries, Ltd. (Usha) from October 16 through October 20, 2000, and from November 6 through November 10, 2000, respectively. In addition, we conducted a verification of Usha's constructed export price (CEP) information on December 13 and 14, 2000. The petitioner ¹ requested a hearing in this case on October 30, 2000, and withdrew this request on January 17, 2000. No other interested party requested a hearing. Usha and the petitioner submitted case briefs on January 10, 2001. The petitioner submitted a rebuttal brief on January 16, 2001; Usha did not submit a rebuttal brief.

¹ The petitioner in these investigations is the Committee of Domestic Steel Wire Rope and Specialty Cable Manufacturers.

In the PRC investigation, we conducted verification of the sales and factors of production information submitted by respondents Nantong Zhongde (Nantong), and Fasten Group Import and Export Co., Ltd. (Fasten) from October 9 through October 13, 2000, and October 16 through October, 20, 2000, respectively. In addition, we conducted a verification of Fasten USA's CEP information on October 23 and October 24, 2000. Counsel to Nantong and the petitioner requested a hearing on October 27 and October 30, 2000, respectively. Nantong, Fasten, Dragon Trading, Inc. (an interested party), and the petitioner submitted case briefs on December 15, 2000. On December 21, 2000, Fasten submitted to the Department an allegation that certain portions of the petitioner's case brief contained new factual information. Dragon Trading, Inc. submitted a rebuttal brief on December 22; Nantong, Fasten, and the petitioner submitted rebuttal briefs on December 27, 2000. On January 5, 2001, the Department held a public hearing in the PRC investigation. On January 9, 2001, the Department rejected certain pages in the petitioner's case brief containing new factual information. See Memorandum to the File (January 9, 2001).

In the Malaysia investigation, we conducted verification of the cost and sales information submitted by respondent Kiswire SDN.BHD (Kiswire) from October 23 through October 26, 2000, and October 30 through November 2, 2000, respectively. In addition, we conducted a verification of Kiswire's CEP information on November 14, 2000. Kiswire and the petitioner requested a hearing in this case on October 24, 2000, and October 30, 2000, respectively. Both parties submitted case briefs on December 21, 2000, and rebuttal briefs on January 4, 2001. Kiswire and the petitioner withdrew their requests for a hearing on January 9 and January 10, 2001, respectively.

Scope of Investigations

For purposes of these investigations, the product covered is steel wire rope. Steel wire rope encompasses ropes, cables, and cordage of iron or carbon or stainless steel, other than stranded wire, not fitted with fittings or made up into articles, and not made up of brass-plated wire. Imports of these products are currently classifiable under subheadings: 7312.10.6030, 7312.10.6060, 7312.10.9030, 7312.10.9060, and 7312.10.9090 of the Harmonized Tariff Schedule of the United States (HTSUS). Although HTSUS subheadings are provided for convenience and Customs Service purposes, the written description of the scope of these investigations is dispositive.

Period of Investigations

The period of the investigations (POI) is January 1, 1999, through December 31, 1999, for India and Malaysia, and July 1, 1999, through December 31, 1999, for the PRC.

Analysis of Comments Received

All issues raised in the case and rebuttal briefs by parties to these antidumping proceedings are listed in the Appendix to this notice and addressed in the Decision Memorandum for each of the instant investigations, dated February 14, 2001, which are hereby adopted by this notice. The Decision Memorandum for each case is on file in room B-099 of the main Department of Commerce building. In addition, a complete version of the Decision Memorandum for each investigation can be accessed directly on the World Wide Web at www.ita.doc.gov/import_admin/records/frn. The paper and electronic versions of each Decision Memorandum are identical in content.

Changes Since the Preliminary Determinations

Based on our findings at verification, and analysis of comments received, we have made adjustments to the preliminary determination calculation methodologies in calculating the final dumping margins in these proceedings. These adjustments are discussed in the case-specific Decision Memorandum for each of the instant investigations.

Critical Circumstances

Section 735(a)(3) of the Act provides that the Department will determine that critical circumstances exist if: (A)(i) there is a history of dumping and material injury by reason of dumped imports in the United States or elsewhere of the subject merchandise, or (ii) the person by whom, or for whose account, the merchandise was imported knew or should have known that the exporter was selling the subject merchandise at less than its fair value and that there would be material injury by reason of such sales, and (B) there have been massive imports of the subject merchandise over a relatively short period. Section 351.206(h)(1) of the Department's regulations provides that, in determining whether imports of the subject merchandise have been “massive,” the Department normally will examine: (i) The volume and value of the imports; (ii) seasonal trends; and (iii) the share of domestic consumption accounted for by the imports. In addition, section 351.206(h)(2) of the Department's regulations provides that an increase in imports of 15 percent or more during the “relatively short period” of time may be considered “massive.”

Section 351.206(i) of the Department's regulations defines “relatively short period” as normally being the period beginning on the date the proceeding begins (i.e., the date the petition is filed) and ending at least three months later. The regulations also provide, however, that if the Department finds that importers, exporters, or producers, had reason to believe, at some time prior to the beginning of the proceeding, that a proceeding was likely, the Department may consider a period of not less than three months from that earlier time.

On August 25, 2000, the petitioner made allegations that critical circumstances exist with respect to imports of steel wire rope from India and the PRC.² In the Steel Wire Rope Preliminary Determinations, we found preliminarily that critical circumstances existed with respect to both countries.

² There was no allegation of critical circumstances in the Malaysia case.

Since the preliminary determinations, we have received comments on the issue of critical circumstances from Usha, Fasten, Nantong, Dragon Trading Inc., and the petitioner. After consideration of these comments, which are discussed in detail in the respective Decision Memorandum for each case, we find that critical circumstances exist in the India case for both Usha and all other Indian producer/exporters of subject merchandise. We also find that critical circumstances exist in the PRC case for Nantong, the six companies which received an “all others” ³ rate, and all non-responsive companies, which are included in the “PRC-wide” category. Finally, we find that critical circumstances do not exist for Fasten because Fasten's final dumping margin is de minimis. These determinations are discussed in detail in the Decision Memorandum for each case.

³ The “all others” category in a non-market economy proceeding, unlike the “all others” category in a market-economy investigation, only includes companies that demonstrated entitlement to separate rates and expressed a willingness to participate in the proceeding, but whose responses were not examined due to limited Department resources.

We note that the “all others” rate for this final determination is the rate assigned to Nantong, the only investigated respondent with a rate above de minimis. This is consistent with our methodology of setting the “all others” rate in NME cases on the weighted average of calculated margins, excluding rates that are de minimis, based entirely on facts available, or calculated for voluntary respondents. See Notice of Final Determination of Sales at Less Than Fair Value: Certain Non-Frozen Apple Juice Concentrate from the People's Republic of China. 65 FR 19873 (April 13, 2000).

Continuation of Suspension of Liquidation

In accordance with section 735(c)(1)(B) of the Act, we are directing the Customs Service to continue to suspend liquidation of all entries of steel wire rope exported from India and the PRC, with the exception of merchandise produced by Fasten Co., Ltd. and exported by Fasten Group Import and Export Co., Ltd., that are entered, or withdrawn from warehouse, for consumption on or after July 4, 2000, (90 days prior to the date of publication of the preliminary determinations in the Federal Register). The Customs Service shall continue to require a cash deposit or the posting of a bond based on the estimated weighted-average dumping margins shown below. Because we have determined that steel wire rope produced by Fasten Co., Ltd. and exported by Fasten Group Import and Export Co., Ltd., in the PRC is not being sold at LTFV, we are not directing the Customs Service to suspend liquidation of this merchandise. The suspension of liquidation instructions will remain in effect until further notice.

Because we have determined that steel wire rope from Malaysia is not being sold at LTFV, we are not directing the Customs Service to suspend liquidation of steel wire rope exported from Malaysia.

We determine that the following weighted-average dumping margins for India, the PRC, and Malaysia exist:

Manufacturer/exporter | Margin (percent)
India:
Usha Martin Industries, Ltd | 38.63
All Others | 38.63
People's Republic of China:
Fasten Group Import and Export Co., Ltd | ² 0.02
Haicheng Greatx Industry Co. Ltd.¹ | 42.23
Henan Baoi Wire Rope Factory ¹ | 42.23
Jiangsu COFCO ¹ | 42.23
Jiangsu Guo Tai ¹ | 42.23
Liaoning Metals & Minerals Import & Export Corp.¹ | 42.23
Nantong Wire Rope Company ¹ | 42.23
Nantong Zhongde | 42.23
PRC-Wide Rate | 58.00
Malaysia:
Kiswire SDN.BHD | ² 0.26
All Others | ² 0.26
¹ All others.
² De minimis.

The PRC-wide rate applies to all entries of the subject merchandise except for entries from exporters/factories that are identified individually above.

International Trade Commission Notification

In accordance with section 735(d) of the Act, we have notified the International Trade Commission (ITC) of our determinations. As our final determinations are affirmative for India and the PRC, the ITC will determine, within 45 days, whether imports of subject merchandise from India and the PRC are causing material injury, or threaten material injury, to an industry in the United States. If the ITC determines that material injury or threat of injury does not exist, the proceedings will be terminated and all securities posted will be refunded or canceled. If the ITC determines that such injury does exist, the Department will issue antidumping orders directing Customs Service officials to assess antidumping duties on all imports of the subject merchandise entered, or withdrawn from warehouse for consumption on or after the effective date of the suspension of liquidation.

These determinations are issued and published in accordance with sections 735(d) and 777(i)(1) of the Act.

Dated: February 14, 2001.
Timothy J. Hauser,
Acting Under Secretary for International Trade.

Appendix

Issues Covered in Decision Memorandum for India

1. Facts Available

2. Major Input Rule

3. Financial Expense Ratio

4. Duty Drawback

5. Home Market Credit Expense

6. Home Market Warehousing Expense

7. Critical Circumstances

8. Treatment of Negative Margins

9. Ministerial Errors

Issues Covered in Decision Memorandum for the PRC

1. Surrogate Value for Wire Rod

2. Surrogate Value for Fiber Cores

3. Surrogate Value for Wood Pallets

4. Surrogate Value for Sulphuric Acid

5. Surrogate Value for Nuts and Bolts

6. Surrogate Value for Hydrochloric Acid

7. Surrogate Value for Lead

8. Surrogate Value for Electricity

9. Surrogate Value for Zinc Nitrate

10. Use of a Market Economy Rate for Ocean Freight

11. Critical Circumstances

12. Correction of Ministerial Error for Valuing International Freight

13. Correction of Ministerial Error for the Conversion Factor of Wood Reels

Issues Covered in Decision Memorandum for Malaysia

1. Mandatory Respondents and “All Others” Rate

2. Cost Reporting for Grade and Lay of Rope

3. Model Match Hierarchy

4. Adjustments to Home Market and U.S. Market Short-Term Borrowing Rates

5. Treatment of Negative Margins

6. General and Administrative Expense

7. Financial Expense Ratio

[FR Doc. 01-4895 Filed 2-27-01; 8:45 am]

BILLING CODE 3510-DS-P